DEPARTMENT OF AGRICULTURE

Rural Housing Service

Notice of Funds Availability for the Section 533 Housing Preservation Grants for Fiscal Year 2008

AGENCY: Rural Housing Service, USDA.

ACTION: Notice; correction.

SUMMARY: The Rural Housing Service published a document in the Federal Register on February 20, 2008, announcing that it is soliciting competitive applications under its Housing Preservation Grant program. The listing for the Rural Development Oregon State Office address was incorrectly identified in the notice.

FOR FURTHER INFORMATION CONTACT: Bonnie Edwards-Jackson, Senior Loan Specialist, Multi-Family Housing Processing Division, USDA Rural Development, Stop 0781, 1400 Independence Avenue, SW., Washington, DC 20250-0781, telephone (202) 690-0759 (voice) (this is not a toll free number) or (800) 877-8339 (TDD-Federal Information Relay Service) or via e-mail at, Bonnie.Edwards@wdc.usda.gov.

Correction

In the Federal Register of February 20, 2008, in FR Doc. 08-690, on page 9275, in the first column, the listing for the Rural Development Oregon State Office, address, telephone number and person to contact should read:

Oregon State Office, 1201 NE., Lloyd Blvd., Suite 801, Portland, OR 97232-1274, (503) 414-3340, TDD (503)414-3387, Barb Brandon.

Dated: February 28, 2008.
Russell T. Davis,
Administrator, Rural Housing Service.

[FR Doc. E8-4854 Filed 3-11-08; 8:45 am]

BILLING CODE 3410-XV-P